DEPARTMENT OF ENERGY

Federal Energy Regulatory Commission

[Project No. 12690-004]

Public Utility District No. 1 of Snohomish County, WA; Notice of Preliminary Permit Application Accepted for Filing and Soliciting Comments, Motions To Intervene, and Competing Applications

March 31, 2010.

On March 2, 2010, the Public Utility District No. 1 of Snohomish County, Washington, filed an application for a preliminary permit, pursuant to section 4(f) of the Federal Power Act (FPA), proposing to study the feasibility of the Admiralty Inlet Tidal Energy Project to be located in Admiralty Inlet in the northwestern portion of Puget Sound, between the Olympic Peninsula and Whidbey Island, in Jefferson and Island Counties, Washington. The sole purpose of a preliminary permit, if issued, is to grant the permit holder priority to file a license application during the permit term. A preliminary permit does not authorize the permit holder to perform any land-disturbing activities or otherwise enter upon lands or waters owned by others without the owners' express permission.

The proposed project will consist of the following: (1) Two 32.8-foot-diameter, 500-kilowatt horizontal axis OpenHydro turbines, each mounted on a triangular subsea base; (2) two approximately 820-foot-long service cables transmitting power from the turbines to a trunk cable; (3) an approximately 3,280-foot-long trunk cable, approximately half the length will be buried, corresponding from the 20-meter contour to shore; (4) a cable termination vault; (5) an approximately 265-foot-long buried transmission conduit from the termination vault to the Power Conditioning and Control building (PC&C); (6) a PC&C building; (7) an approximately 460-foot-long, 3.3-kilovolt (kV) power cable bringing power from the PC&C building to the 12-kV Puget Sound Energy grid; and (8) appurtenant facilities.

Applicant Contact: Steven Klein, General Manager, P.O. Box 1107, 2320 California Street, Everett, WA 98206-110; phone: (425) 783-1000.

FERC Contact: Jennifer Harper (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's website (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's website at http://www.ferc.gov/docs-filing/elibrary.asp. Enter the docket number (P-12690-004) in the docket number field to access the document. For assistance, contact FERC Online Support.

Nathaniel J. Davis, Sr.,
Deputy Secretary.

[FR Doc. 2010-7702 Filed 4-5-10; 8:45 am]

BILLING CODE 6717-01-P